DEPARTMENT OF HOMELAND SECURITY

Coast Guard

33 CFR Part 117

[CGD01-06-005]

Drawbridge Operation Regulations: Connecticut River, Old Lyme, CT

AGENCY: Coast Guard, DHS.

ACTION: Notice of temporary deviation from regulations.

SUMMARY: The Commander, First Coast Guard District, has issued a temporary deviation from the drawbridge operation regulations governing the operation of the AMTRAK Old Saybrook-Old Lyme Bridge, across the Connecticut River at mile 3.4, at Old Lyme, Connecticut. This deviation from the regulations allows the bridge to operate on a fixed schedule for bridge openings from February 4, 2006 through March 6, 2006, and also authorizes one 12-hour and two 72-hour bridge closures. This deviation is necessary in order to facilitate scheduled bridge maintenance.

DATES: This deviation is effective from February 4, 2006 through March 6, 2006.

ADDRESSES: Materials referred to in this document are available for inspection or copying at the First Coast Guard District, Bridge Branch Office, 408 Atlantic Avenue, Boston, Massachusetts, 02110, between 7 a.m. and 3 p.m., Monday through Friday, except Federal holidays. The telephone number is (617) 223-8364. The First Coast Guard District Bridge Branch Office maintains the public docket for this temporary deviation.

FOR FURTHER INFORMATION CONTACT: Judy Leung-Yee, Project Officer, First Coast Guard District, at (212) 668-7195.

SUPPLEMENTARY INFORMATION: The AMTRAK Old Saybrook-Old Lyme Bridge, at mile 3.4, across the Connecticut River has a vertical clearance in the closed position of 19 feet at mean high water and 22 feet at mean low water. The existing drawbridge operation regulations are listed at 33 CFR 117.205(b).

The owner of the bridge, National Railroad Passenger Corporation (AMTRAK), requested a temporary deviation from the drawbridge operating regulations to facilitate scheduled electrical and mechanical bridge repairs. In order to prosecute the above repairs the bridge must open on a fixed bridge opening schedule.

This deviation from the operating regulations allows the AMTRAK Old Saybrook-Old Lyme Bridge to operate from February 4, 2006 through March 6, 2006, as follows:

From Monday through Friday, the bridge shall open on signal at 8:15 a.m., 12:15 p.m., and 2:15 p.m.

On Saturday and Sunday the bridge shall open on signal at 8 a.m., 10 a.m., 1 p.m., and 4 p.m.

The bridge shall open on signal for all vessel traffic from 4 p.m. through 8 a.m. after a four-hour advance notice is given by calling the number posted at the bridge.

The bridge shall open on signal for commercial vessels at any time after a four-hour advance notice is given by calling the number posted at the bridge.

In addition, the bridge may remain in the closed position for all vessels from 7 a.m. through 7 p.m. on February 6, 2006 from 12:01 a.m. February 11, through 11:59 p.m. February 13, 2006 and 12:01 a.m. February 18 through 11:59 p.m. February 20, 2006.

This temporary deviation does not affect the operation of the CONRAIL Middletown-Portland Bridge, mile 32.0, across the Connecticut River, which is also listed under 33 CFR § 117.205(b).

In accordance with 33 CFR 117.35(c), this work will be performed with all due speed in order to return the bridge to normal operation as soon as possible. This deviation from the operating regulations is authorized under 33 CFR 117.35.

Dated: February 3, 2006.
Gary Kassof,
Bridge Program Manager, First Coast Guard District.

[FR Doc. 06-1253 Filed 2-9-06; 8:45 am]

BILLING CODE 4910-15-P